DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on October 15, 2024. See Supplementary Information section for relevant dates.

FOR FURTHER INFORMATION CONTACT: OFAC: Associate Director for Global Targeting, 202-622-2420; Assistant Director for Licensing, 202-622-2480; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On October 15, 2024, OFAC determined that the property and interests in property subject to U.S. jurisdiction of the following persons are blocked under the relevant sanctions authorities listed below.

Individual

1. BARAKAT, Khaled (a.k.a. “Rabah”), Canada; DOB 01 Jun 1972; POB Ramallah, Palestinian Territories; Gender Male; Secondary sanctions risk: section 1(b) of Executive Order 13224, as amended by Executive Order 13886; Passport AG669835 (Canada) expires 25 May 2028 (individual) [SDGT] (Linked To: POPULAR FRONT FOR THE LIBERATION OF PALESTINE).

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having acted or purported to act for or on behalf of, directly or indirectly, the POPULAR FRONT FOR THE LIBERATION OF PALESTINE, a person whose property and interests in property are blocked pursuant to E.O. 13224.

Entity

1. SAMIDOUN PALESTINIAN PRISONER SOLIDARITY NETWORK (a.k.a. LE RESEAU DE SOLIDARITE AUX PRISONNIERS PALESTINIENS SAMIDOUN; a.k.a. SAMIDOUN; a.k.a. “HIRAK”), Vancouver, British Columbia, Canada; London, United Kingdom; Secondary sanctions risk: section 1(b) of Executive Order 13224, as amended by Executive Order 13886; Organization Established Date 2011 to 2012; National ID No. 12793741 (Canada); UK Company Number 13885242 (United Kingdom) [SDGT] (Linked To: POPULAR FRONT FOR THE LIBERATION OF PALESTINE).

Designated pursuant to section 1(a)(iii)(A) of E.O. 13224, as amended, for being owned, controlled, or directed by, or has acted or purported to act for or on behalf of, directly or indirectly, the POPULAR FRONT FOR THE LIBERATION OF PALESTINE, a person whose property and interests in property are blocked pursuant to E.O. 13224.

Lisa M. Palluconi,
Acting Director, Office of Foreign Assets Control.

[FR Doc. 2024-24134 Filed 10-17-24; 8:45 am]

BILLING CODE 4810-AL-P